DEPARTMENT OF AGRICULTURE

Natural Resources Conservation Service

Notice of Availability of the Record of Decisions (ROD) for Texas Gas Transmission, LLC (Texas Gas) Fayetteville/Greenville Expansion Project

AGENCY: Natural Resources Conservation Service (NRCS), USDA.

ACTION: Notice of availability of the Record of Decision (ROD) for the Texas Gas Transmission, LLC (Texas Gas) Fayetteville/Greenville Expansion Project.

SUMMARY: This notice presents the Record of Decision (ROD) regarding the Natural Resources Conservation Service (NRCS) decided to subordinate its rights, acquired under the Wetland Reserve Program (WRP), to allow the Texas Gas Transmission, LLC (Texas Gas) to cross NRCS held conservation easements associated with the Arkansas Fayetteville Lateral to Mississippi Greenville Lateral Expansion Project in Humphreys County, Mississippi. The project will affect approximately one NRCS held WRP easement in Mississippi creating a 50-foot permanent right-of-way, being 5 feet on each side of the center of the pipeline, and the temporary right-of-way shall be no greater than 25 feet wide. The Federal Energy Regulatory Commission (FERC) prepared a final environmental impact statement (EIS) to fulfill requirements of the National Environmental Policy Act (NEPA). FERC issued the order of issuing certificate on May 2, 2008.

ADDRESSES: Copies of the ROD and EIS are available upon request from the Natural Resource Conservation Service, Suite 1321, Federal Building, 100 West Capitol Street, Jackson, MS 39269.

FOR FURTHER INFORMATION CONTACT: Decunda Duke-Bozeman, State WRP Coordinator, Natural Resources Conservation Service, Suite 1321, Federal Building, 100 West Capitol Street, Jackson, MS 39269, or by telephone at (601) 965-4139, extension 120.

SUPPLEMENTARY INFORMATION: The alternatives analysis is the final EIS found no reasonable routes alternatives that would be environmentally preferable to the proposed routes. The final EIS determined that the proposed Fayetteville/Greenville Expansion Project as modified by the recommended mitigation measures is the preferred alternative. Potential impacts to wetlands will be avoided, minimized and mitigated through Texas Gas Transmission of numerous route variations, implementation of agency recommendations and requirements, and development of site-specific crossing plans.

Homer L. Wilkes,
State Conservationist.

[FR Doc. E8-22332 Filed 9-23-08; 8:45 am]

BILLING CODE 3410-16-P